NATIONAL AERONAUTICS AND SPACE ADMINISTRATION

[Notice 13-015]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: March 1, 2013.

FOR FURTHER INFORMATION CONTACT: Robert M. Padilla, Patent Counsel, Ames Research Center, Code 202A-4, Moffett Field, CA 94035-1000; telephone (650) 604-5104; fax (650) 604-2767.

NASA Case No.: ARC-16811-1: Compliant Electrode and Composite Material for Piezoelectric Wind and Mechanical Energy Conversions;

NASA Case No.: ARC-16467-1: System and Method for Outlier Detection via Estimating Clusters.

Sumara M. Thompson-King,
Deputy General Counsel.

[FR Doc. 2013-04801 Filed 2-28-13; 8:45 am]

BILLING CODE 7510-13-P